DEPARTMENT OF HEALTH AND HUMAN SERVICES

Administration for Children and Families

Submission for OMB Review; Comment Request

Title: TANF Time Limits Interview Guides for Site Visits.

OMB No.: New Collection.

Description: The Imposition of Federally imposed time limits on the receipt of cash assistance under the Temporary Assistance for Needy Families (TANF) program was a central part of welfare reform. The Task Order on “TANF Separate State Programs, Time Limits and Participation Requirements” seeks to understand how States have implemented TANF time limits and what effects they have had on families receiving TANF. Now that most States have had several years' experience with the 60-month time limit under varying economic conditions, this project will provide valuable information as to the effects of the TANF time limits and will update a previous TANF time limits study. The project draws on qualitative research conducted through eight site visits as well as quantitative research using State administrative records.

The site visits will include interviews with State TANF administrators, local TANF office managers, and TANF caseworkers. ACF will use these interviews to understand what decisions State administrators made in designing time limit policies and how local managers and line workers implement these decisions on a daily basis. The interview guides will focus on the following topics: The basic time limit policies in each State, how information is communicated to families reaching time limits, what the process is for cases approaching time limits, under what circumstances families can continue to receive TANF benefits beyond the time limits, and whether there is any follow-up with families that have reached time limits.

The quantitative research will draw on administrative records that States routinely report to ACF. In some cases, however, it may be necessary to conduct follow-up calls to State TANF officials to ask questions about the data. In addition, in States that only report data on subsamples of TANF families to ACT, it may be necessary to request additional information that is maintained in reports that States produce for their own internal management purposes.

Annual Burden Estimates
Instrument | Number of respondents | Number of responses per respondent | Average burden hours per response | Total burden hours
Interview Guide for State Administrators | 8 | 1 | 1.5 | 12
Interview Guide for Local Office Managers | 16 | 1 | 1 | 16
Interview Guide for Caseworkers | 64 | 1 | 1 | 64
Questions on State Administrative Data | 25 | 1 | 1 | 25
Estimated Total Annual Burden Hours |  |  |  | 117

Additional Information: Copies of the proposed collection may be obtained by writing to the Administration for Children and Families, Office of Administration, Office of Information Services, 370 L' Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recomendations for the proposed information collection should be sent directly to the following: Office of Management and Budget, Paperwork Reduction Project, Attn: Desk Officer for ACF, E-mail address: Katherine_T._Astrich@omb.eop.gov.

Dated: March 8, 2006.
Robert Sargis,
Reports Clearance Officer.

[FR Doc. 06-2453 Filed 3-14-06; 8:45 am]

BILLING CODE 4184-01-M